FEDERAL MINE SAFETY AND HEALTH REVIEW COMMISSION

Sunshine Act Notice

May 21, 2015.

TIME AND DATE: 10:00 a.m., Wednesday, June 3, 2015.

PLACE: The Richard V. Backley Hearing Room, Room 511N, 1331 Pennsylvania Avenue NW., Washington, DC 20004 (enter from F Street entrance).

STATUS: Open.

MATTERS TO BE CONSIDERED: The Commission will consider and act upon the following in open session: Secretary of Labor v. The American Coal Company, Docket No. LAKE 2009-35. (Issues include whether the Administrative Law Judge correctly interpreted the term “repeated failure” with regard to allegations that the operator is liable for flagrant penalties.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Sarah L. Stewart,
Deputy General Counsel.

[FR Doc. 2015-12804 Filed 5-21-15; 4:15 pm]

BILLING CODE 6735-01-P